DEPARTMENT OF THE INTERIOR

National Indian Gaming Commission

Notice of Approved Class III Tribal Gaming Ordinance

AGENCY: National Indian Gaming Commission, Interior.

ACTION: Notice.

SUMMARY: The purpose of this notice is to inform the public of the approval of Kalispel Tribe of Indians' Class III gaming ordinance by the Chairman of the National Indian Gaming Commission.

DATES: This notice is applicable July 6, 2022.

FOR FURTHER INFORMATION CONTACT: Dena Wynn, Office of General Counsel at the National Indian Gaming Commission, 202-632-7003, or by facsimile at 202-632-7066 (not toll-free numbers).

SUPPLEMENTARY INFORMATION: The Indian Gaming Regulatory Act (IGRA) 25 U.S.C. 2701 et seq., established the National Indian Gaming Commission (Commission). Section 2710 of IGRA authorizes the Chairman of the Commission to approve Class II and Class III tribal gaming ordinances. Section 2710(d)(2)(B) of IGRA, as implemented by NIGC regulations, 25 CFR 522.8, requires the Chairman to publish, in the Federal Register, approved Class III tribal gaming ordinances and the approvals thereof.

IGRA requires all tribal gaming ordinances to contain the same requirements concerning tribes' sole proprietary interest and responsibility for the gaming activity, use of net revenues, annual audits, health and safety, background investigations and licensing of key employees and primary management officials. The Commission, therefore, believes that publication of each ordinance in the Federal Register would be redundant and result in unnecessary cost to the Commission.

Thus, the Commission believes that publishing a notice of approved Class III tribal gaming ordinances in the Federal Register is sufficient to meet the requirements of 25 U.S.C. 2710(d)(2)(B). Every ordinance and approval thereof is posted on the Commission's website (www.nigc.gov) under General Counsel, Gaming Ordinances within five (5) business days of approval.

On June 2, 2022, the Chairman of the National Indian Gaming Commission approved Kalispel Tribe of Indians' Class III Gaming Ordinance. A copy of the approval letter is posted with this notice and can be found with the approved ordinance on the NIGC's website (www.nigc.gov) under General Counsel, Gaming Ordinances. A copy of the approved Class III ordinance will also be made available upon request. Requests can be made in writing to the Office of General Counsel, National Indian Gaming Commission, Attn: Dena Wynn, 1849 C Street NW, MS #1621, Washington, DC 20240 or at info@nigc.gov.

National Indian Gaming Commission.
Dated: June 28, 2022.
Michael Hoenig,
General Counsel.

June 2, 2022

VIA EMAIL

Glen Nenema, Chairman

P.O. Box 39

Usk, WA 99180

Re: Gaming Ordinance Amendment

Dear Mr. Nenema:

This letter responds to your request for the National Indian Gaming Commission (NIGC) Chairman to review and approve the Kalispel Tribe of Indians' Gaming Ordinance amendment. The Kalispel Business Committee amended its Gaming Ordinance on March 22, 2022, by Kalispel Resolution No. 2022-50.

Thank you for bringing the gaming ordinance to the Agency's attention and for providing a copy. I approve the ordinance as it is consistent with the Indian Gaming Regulatory Act and NIGC regulations. As the Tribal Gaming Agency (TGA) will be changing its process for conducting a criminal history check, I want to remind the Tribe that as long as Criminal History Record Information that has been received from the NIGC still resides within the TGA's system(s), the Federal Bureau of Investigation Criminal Justice Information Services (CJIS) Security Policy requirements apply until such time as the information is securely disposed of, in accordance with the Security Policy.

If you have any questions, please contact Senior Attorney Esther Dittler at 202-853-7511.

Sincerely,

E. Sequoyah Simermeyer

Chairman

[FR Doc. 2022-14292 Filed 7-5-22; 8:45 am]

BILLING CODE 7565-01-P